DEPARTMENT OF JUSTICE

Antitrust Division

Notice Pursuant to the National Cooperative Research and Production Act of 1993—Medical Technology Enterprise Consortium

Notice is hereby given that, on June 28, 2024, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Able Hands Rehabilitation PC, Old Bridge, NJ; Atlantic Diving Supply, Inc. dba ADS, Inc., Virginia Beach, VA; BC3 Technologies, Inc., Baltimore, MD; Bessel LLC, El Paso, TX; BioTechnique LLC, York, PA; Black Canyon Consulting LLC, Fairfax, VA; Bruder Consulting & Venture Group, Franklin Lakes, NJ; Burrell International Group, Washington, DC; Coagulo Medical Technologies, Inc., Auburndale, MA; Cresilon, Inc., Brooklyn, NY; Drul, Inc., Baltimore, MD; Dynocarida, Inc., Newton, MA; Emergency Dermal Solutions LLC, Durango, CO; EverGlade Consulting LLC, Houston, TX; Excentium, Inc., Reston, VA; FEI.COM, Inc. dba Systems, Columbia, MD; Field Viewers, Inc., Austin, TX; FieldLine, Inc., Boulder, CO; GenAssist, Inc., St. Louis, MO; Glacier Support Service LLC, San Antonio, TX; iFyber LLC, Ithaca, NY; J & D Pharmaceuticals LLC, Monmouth Beach, NJ; Jaktool, Cranbury, NJ; KardioGenics, Inc., San Jose, CA; LifeRaft Drones, Inc., Fort Worth, TX; Mimosa Diagnostics, Inc., Toronto, CANADA; Mountain Biometrics, Salt Lake City, UT; Nano PharmaSolutions, Inc., San Diego, CA; Neuro42, Inc., San Francisco, CA;, neuroFit, Inc., Mountain View, CA;, Noxsano, Inc., Cincinnati, OH; NxTech, Inc., Attleboro, MA; Octapharma USA, Paramus, NJ; Okineo LLC, San Mateo, CA; Orthomod LLC, Dayton, OH; Overjet, Boston, MA; People Value Research, Ltd., Ipswich, UNITED KINGDOM; RxMP Therapeutics, Inc., Seattle, WA;, Safi Biotherapeutics, Inc., Cambridge, MA; Sherpani LLC, Baltimore, MD; Shionogi, Inc., Florham Park, NJ; Signum Technologies, Inc., Radnor, PA; The Emmes Company LLC, Rockville, MD; Trade and Investment Queensland, San Francisco, CA; TruGenomix Health, Inc., dba Polaris Genomics, Gaithersburg, MD; Unveil LLC, Cincinnati, OH; Ursus Medical Designs LLC, Pittsburgh, PA; and Vaxxas Pty, Ltd., Hamilton, AUSTRALIA, have been added as parties to this venture.

Also, ImmersiveTouch, Inc., Chicago, IL; Neuromersive, Inc., Fort Worth, TX; Precisio Biotix Technologies, Dover, DE; and Sepsis Scout, Inc., San Francisco, CA, have withdrawn as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014(79 FR 32999).

The last notification was filed with the Department on April 2, 2024. A notice was published in the Federal Register pursuant to section 6(b) of the Act on June 21, 2024(89 FR 52090).

Suzanne Morris,
Deputy Director Civil Enforcement Operations, Antitrust Division.

[FR Doc. 2024-20967 Filed 9-13-24; 8:45 am]

BILLING CODE P